NATIONAL AERONAUTICS AND SPACE ADMINISTRATION

[Notice: (08-046)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Dr. Walter Kit, National Aeronautics and Space Administration, Washington, DC 20546-0001.

FOR FURTHER INFORMATION CONTACT: Requests for additional information or copies of the information collection instrument(s) and instructions should be directed to Dr. Walter Kit, NASA Clearance Officer, NASA Headquarters, 300 E Street, SW., JE0000, Washington, DC 20546, (202) 358-1350, Walter.Kit-1@nasa.gov.

SUPPLEMENTARY INFORMATION:

I. Abstract

The information submitted by recipients is to provide a tracking mechanism for property on an annual basis, at the end of the grant, or on the occurrence of certain event. This information is used by NASA to effectively maintain an appropriate internal control system for equipment and property provided or acquired under grants and cooperative agreements with institutions of higher education and other non-profit organizations, and to comply with statutory requirements.

II. Method of Collection

NASA is participating in Federal efforts to extend the use of information technology to more Government processes via Internet.

III. Data

Title: NASA Inventory Report: Property Management & Control, Grants.

OMB Number: 2700-0047.

Type of review: Revision of currently approved collection.

Affected Public: Not-for-profit institutions and State, Local or Tribal. Government

Estimated Number of Respondents: 141.

Estimated Time per Response: 12.28 hours.

Estimated Total Annual Burden Hours: 1732 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Associate Chief Information Officer (Acting).

[FR Doc. E8-11193 Filed 5-19-08; 8:45 am]

BILLING CODE 7510-13-P